DEPARTMENT OF VETERANS AFFAIRS

[OMB Control No. 2900-0021]

Agency Information Collection: VA Loan Electronic Reporting Interface (VALERI) System; Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 7, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0021” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0021.”

SUPPLEMENTARY INFORMATION: Title: VA Loan Electronic Reporting Interface (VALERI) System.

OMB Control Number: 2900-0021.

Type of Review: Revision of a currently approved collection.

Abstract: VA conducted an in-depth internal review of the entire Loan Administration process. As a result of this review, VA changed previous procedures which include: collections of information and record retention related to the increased authority of servicers to implement loss-mitigation options; processing of loan modifications; increased information reporting requirements for servicers; elimination of currently-required Notices of Intention to Foreclose; reduction in the amount of documentation provided to VA incident to refunding loans; significant reduction in reporting and recordkeeping burdens pertaining to legal proceedings, including bankruptcies and foreclosures; changes in the way servicers are permitted to file an election to convey properties to VA; provisions permitting claims to be filed electronically instead of paper submission; authorizing certain servicers to process releases of liability and partial releases; and permitting certain servicers the authority to process liquidation appraisals instead of VA and its appraisers.

An agency may not conduct or sponsor, and a person is not required to respond to a collection of information unless it displays a currently valid OMB control number. The Federal Register Notice with a 60-day comment period soliciting comments on this collection of information was published at 81 FR 47857 on July 22, 2016.

Affected Public: Individuals or households.

Estimated Annual Burden: 70 hours.

Estimated Average Burden per Respondent: 1 second.

Frequency of Response: One-time.

Estimated Number of Respondents: 260.

By direction of the Secretary.
Cynthia Harvey-Pryor,
Program Specialist, Office of Privacy and Records Management, Department of Veterans Affairs.

[FR Doc. 2016-24158 Filed 10-5-16; 8:45 am]

BILLING CODE 8320-01-P